SMALL BUSINESS ADMINISTRATION

Military Reservist Economic Injury Disaster Loans; Interest Rate for Fourth Quarter FY 2012

In accordance with the Code of Federal Regulations 13—Business Credit and Assistance § 123.512, the following interest rate is effective for Military Reservist Economic Injury Disaster Loans approved on or after July 20, 2012.

Military Reservist Loan Program | 4.000%

Dated: July 30, 2012.
James E. Rivera,
Associate Administrator For Disaster Assistance.

[FR Doc. 2012-19040 Filed 8-2-12; 8:45 am]

BILLING CODE P